DEPARTMENT OF TRANSPORTATION

Federal Aviation Administration

14 CFR Chapter I

[Docket No.: FAA-2015-1006]

Discontinuation of Airport Advisory Service in the Contiguous United States, Puerto Rico, and Hawaii

AGENCY: Federal Aviation Administration (FAA), DOT.

ACTION: Notice of policy.

SUMMARY: This action discontinues the availability Airport Advisory services within the contiguous United States, Puerto Rico, and Hawaii. The FAA is taking this action because the frequency of Remote Airport Advisories service use at the 19 locations within the contiguous United States, Puerto Rico, and Hawaii, no longer justifies the continuation of the service due to the lack of productivity.

DATES: Effective date October 1, 2015.

FOR FURTHER INFORMATION CONTACT: Alan Wilkes, Manager, Flight Service NAS Initiative Operations/Implementation, Federal Aviation Administration, 800 Independence Avenue SW., Washington, DC 20591; telephone 202-267-7771; Fax (202) 267-6310; email Alan.Wilkes@faa.gov.

SUPPLEMENTARY INFORMATION:

History

On June 30, 2015, the FAA published in the Federal Register (80 FR 37356-37358) a notice of proposed policy to inform the public regarding proposed revisions to the criteria set forth in FAA Order 7110.10, Flight Services, Chapter 4, Section 4; and FAA Order 7210.3, Facility Operation and Administration, paragraph 13-4-5, so that the policy would apply to the State of Alaska only. Interested parties were invited to participate in this policy change by submitting written comments of the proposal. No comments were received.

Background

The criteria for providing Airport Advisory (AA) services at Flight Service Stations (FSS) is provided in FAA Order 7210.3, and specifies the criteria for providing Airport Advisory (AA) services; specifically, paragraph 13-4-5, addresses Local Airport Advisory (LAA), Remote Airport Advisory (RAA) and Remote Airport Information Service (RAIS). Section (b) of that paragraph requires, in part, that Flight Service Stations provide RAA when the employee productivity factor is high enough to justify the cost of providing the service.¹

¹ The facility's productivity factor is determined by dividing the annual RAA service count by 16,000. The productivity factor is compared to the number of employees used to provide the service and must be equal to or greater than the number of employees needed to provide the service. Normally about 2.5 employees are factored annually to provide 10 hours of service per day.

Currently, Lockheed Martin provides RAA services at 19 locations. At 18 of the 19 locations, a sample of historical data reflects that pilots contact the RAA service an average of less than 1 time per day. At Millville Municipal Airport in Millville, NJ, pilots contact the RAA service an average of 14 times per day.² The frequency of RAA service use no longer justifies the continuation of the service due to the lack of productivity.

² Lockheed Martin contact history daily averages, July 12-26 and October 1-15, 2014.

The FAA will discontinue the requirement for FSSs to provide AA services in the contiguous United States, Puerto Rico, and Hawaii effective October 1, 2015, resulting in services no longer being available at the 19 locations. The AA services in the state of Alaska will not be affected by this change, and will remain due to the unique challenges presented by the remote mountainous terrain and weather conditions across the state.

Applicability

The FAA will revise the criteria set forth in FAA Order 7110.10, Chapter 4, Section 4; and FAA Order 7210.3, paragraph 13-4-5 to only be applicable to the State of Alaska, and AA services will be discontinued at locations within the CONUS, Puerto Rico, and Hawaii. Due to the policy change, RAA service would no longer be provided at the following airports:

Altoona-Blair County Airport (AOO), Altoona, Pennsylvania;

Columbia Regional Airport (COU), Columbia, Missouri;

Elkins-Randolph Airport (EKN), Elkins, West Virginia;

Huron Regional Airport (HON), Huron, South Dakota;

Jackson-McKellar-Sipes Regional Airport (MKL), Jackson, Tennessee;

Jonesboro Municipal Airport (JBR), Jonesboro, Arkansas;

Macon-Middle Georgia Regional Airport (MCN), Macon, Georgia;

Anderson Regional Airport (AND), Anderson, South Carolina;

Anniston Metropolitan Airport (ANB), Anniston, Alabama;

Casper-Natrona County International Airport (CPR), Casper, Wyoming;

Gainesville Regional Airport (GNV), Gainesville, Florida;

Grand Forks International Airport (GFK), Grand Forks, North Dakota;

Greenwood-Leflore Airport (GWO), Greenwood, Mississippi;

Louisville-Bowman Field Airport (LOU), Louisville, Kentucky;

Millville Municipal Airport (MIV), Millville, New Jersey;

Prescott-Ernest A. Love Field Airport (PRC), Prescott, Arizona;

St. Louis-Spirit of St. Louis Airport (SUS), St. Louis, Missouri;

St. Petersburg-Clearwater International Airport (PIE), St. Petersburg, Florida; and

Miami-Kendall-Tamiami Executive Airport (TMB), Miami, Florida.

II. Additional Information

A. Availability of Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpo.gov/fdsys/.

Copies may also be obtained by sending a request to the Federal Aviation Administration, Office of Rulemaking, ARM-1, 800 Independence Avenue SW., Washington, DC 20591, or by calling (202) 267-9680. Commenters must identify the docket or amendment number of this notice.

All documents the FAA considered in developing this notice, including economic analyses and technical reports, may be accessed from the Internet through the Federal eRulemaking Portal referenced in item (1) above.

Issued in Washington, DC, on August 25, 2015.
Jeanne Giering,
Director of Flight Services.

[FR Doc. 2015-21784 Filed 9-16-15; 8:45 am]

BILLING CODE 4910-13-P